DEPARTMENT OF THE INTERIOR

National Park Service

Notice of Inventory Completion: Alma College, Alma, MI

AGENCY: National Park Service, Interior.

ACTION: Notice.

Notice is here given in accordance with the Native American Graves Protection and Repatriation Act (NAGPRA), 25 U.S.C. 3003, of the completion of an inventory of human remains and associated funerary objects in the possession of Alma College, Alma, MI. The human remains and associated funerary object were removed from Gratiot County, MI.

This notice is published as part of the National Park Service's administrative responsibilities under NAGPRA, 25 U.S.C. 3003 (d)(3). The determinations in this notice are the sole responsibility of the museum, institution, or Federal agency that has control of the Native American human remains and associated funerary object. The National Park Service is not responsible for the determinations in this notice.

A detailed assessment of the human remains was made by Alma College professional staff in consultation with representatives of the Saginaw Chippewa Indian Tribe of Michigan.

On March 13, 1920, human remains representing a minimum of one individual were removed from a burial in sec. 5, T. 11 N., R. 3 W. (site 20GR287), Arcada Township, in Gratiot County, MI, by an unknown individual and subsequently donated to Alma College. No known individual was identified. The one associated funerary object is a pontel glass bottle that dates to circa 1740-1780.

The location of the site is consistent with the historically documented territory of the Saginaw Chippewa Indian Tribe of Michigan during the 18th and 19th centuries.

Officials of Alma College have determined that, pursuant to 25 U.S.C. 3001 (9-10), the human remains described above represent the physical remains of one individual of Native American ancestry. Officials of Alma College also have determined that, pursuant to 25 U.S.C. 3001 (3)(A), the one object described above is reasonably believed to have been placed with or near individual human remains at the time of death or later as part of the death rite or ceremony. Lastly, officials of Alma College have determined that, pursuant to 25 U.S.C. 3001 (2), there is a relationship of shared group identity that can be reasonably traced between the Native American human remains and associated funerary objects and the Saginaw Chippewa Indian Tribe of Michigan.

Representatives of any other Indian tribe that believes itself to be culturally affiliated with the human remains and associated funerary object should contact Mary Theresa Bonhage-Freund, Department of Sociology and Anthropology, Alma College, 614 W. Superior, Alma, MI 48801, telephone (989) 463-7186, before October 27, 2005. Repatriation of the human remains and associated funerary object to the Saginaw Chippewa Indian Tribe of Michigan may proceed after that date if no additional claimants come forward.

Alma College is responsible for notifying the Saginaw Chippewa Indian Tribe of Michigan that this notice has been published.

Dated: August 31, 2005.
Sherry Hutt,
Manager, National NAGPRA Program.

[FR Doc. 05-19263 Filed 9-26-05; 8:45 am]

BILLING CODE 4312-50-S